DEPARTMENT OF VETERANS AFFAIRS

Privacy Act of 1974; System of Records

AGENCY: Veterans Health Administration (VHA), Department of Veterans Affairs (VA).

ACTION: Rescindment of a system of records.

SUMMARY: VA is rescinding an outdated system of records titled, “Veteran, Employee and Citizen Health Care Facility Investigation Records—VA” (32VA10Q). This system was used to conduct statistical studies and analyses which supported the formulation of departmental policies and plans by identifying the total current health care usage of the VA patient population. The records and information were also used by VA for audit and evaluation of department programs, determinations of eligibility for benefits, and to conduct research. The system was discontinued on September 30, 2002.

DATES: Comments on this rescinded system of records must be received no later than 30 days after date of publication in the Federal Register. If no public comment is received during the period allowed for comment or unless otherwise published in the Federal Register by the VA, the rescindment will become effective a minimum of 30 days after date of publication in the Federal Register. If VA receives public comments, VA shall review the comments to determine whether any changes to the notice are necessary.

ADDRESSES: Comments may be submitted through https://www.Regulations.gov or mailed to VA Privacy Service, 810 Vermont Avenue NW, (005X6F), Washington, DC 20420. Comments should indicate that they are submitted in response to “Veteran, Employee and Citizen Health Care Facility Investigation Records—VA” (32VA10Q). Comments received will be available at regulations.gov for public viewing, inspection or copies.

FOR FURTHER INFORMATION CONTACT: Stephania Griffin, VHA Chief Privacy Officer, Department of Veterans Affairs, 810 Vermont Avenue NW, (105HIG), Washington, DC 20420; Stephania.Griffin@va.gov, telephone (704) 245-2492 (Note: this is not a toll-free number).

SUPPLEMENTARY INFORMATION: Categories of individuals covered by the system were the following: Veterans, employees and private citizens who have been injured as a result of accident or assault; Veterans who have died as a result of violence or accident, such as suicide, homicide, reaction to anesthesia or drugs, assault, transfusion accident, blood incompatibility, error in treatment, neglect of patient, fire, firearms, explosion, etc.; employees and private citizens who have died as a result of violence or accident; Veterans who have left the health care facility without authorization; Veterans, employees and private citizens who have alleged the loss of personal property, funds or valuables; Veterans and private citizens who have alleged abuse by members of the health care facility staff; employees who have alleged discrimination, abuse or threats of violence by other employees, Veterans and private citizens; Veterans, employees and visitors who have assaulted other individuals; Veterans, employees or private citizens who have been involved in the sale of illegal drugs or alcohol within the health care facility; Veterans, employees and private citizens who have been accused of stealing from other individuals or from the VA health care facility; employees who have been accused of improper and unethical conduct; and Veterans, employees and private citizens who have willfully or accidentally destroyed or damaged Federal property.

Records were maintained on paper documents and photographs. This system of records is being rescinded as a result of the Veteran, Employee and Citizen Health Care Facility Investigation Records being merged with the electronic system within Office of Medical Inspector. This information is now located within the system of records titled, “Investigative Database—VA” (162VA10E1B). The records associated with the Veteran, Employee and Citizen Health Care Facility Investigation Records were destroyed in accordance with VHA Records Control Schedule 10-1, item number 1160.1.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on January 18, 2024 for publication.

Dated: January 19, 2024.
Amy L. Rose,
Government Information Specialist, VA Privacy Service, Office of Compliance, Risk and Remediation, Office of Information and Technology, Department of Veterans Affairs.

SYSTEM NAME:

“Veteran, Employee and Citizen Health Care Facility Investigation Records—VA” (32VA10Q)”

HISTORY:

58 FR 40852 (July 30, 1993); 74 FR 44902 (August 31, 2009).

[FR Doc. 2024-01331 Filed 1-23-24; 8:45 am]

BILLING CODE 8320-01-P